DEPARTMENT OF THE INTERIOR

Bureau of Land Management

[LLIDT01000. L51010000. FX0000. LVRWD09D0500]

Notice of Availability of the Draft Environmental Impact Statement and Draft Resource Management Plan Amendment to the 1987 Jarbidge Resource Management Plan for the Proposed China Mountain Wind Project

AGENCY: Bureau of Land Management, Interior.

ACTION: Notice of availability.

SUMMARY: In accordance with the National Environmental Policy Act (NEPA) of 1969, as amended, and the Federal Land Policy and Management Act of 1976 (FLPMA), as amended, the Bureau of Land Management (BLM) has prepared a Draft Environmental Impact Statement (EIS) and a Draft Resource Management Plan (RMP) Amendment for the Proposed China Mountain Wind Project in south central Idaho and northeast Nevada and by this notice is announcing the opening of the comment period.

DATES: To ensure that comments will be considered, the BLM must receive written comments on the Draft EIS and Draft RMP Amendment within 90 days following the date the Environmental Protection Agency publishes its notice of the availability of these documents in the Federal Register. The BLM will announce future meetings or hearings and any other public involvement activities at least 15 days in advance through public notices, media releases, and/or mailings.

ADDRESSES: You may submit comments related to the Proposed China Mountain Wind Project by any of the following methods:

• Web site: http://www.blm.gov/id/st/en/prog/planning/china_mountain_wind.html.

• E-mail: id_chinamtn_eis@blm.gov.

• Fax: (208) 735-2076.

• Mail: China Mountain Wind Project Manager, Jarbidge Field Office, 2536 Kimberly Road, Twin Falls, Idaho 83301.

Copies of the Proposed China Mountain Wind Project Draft EIS and Draft RMP Amendment are available in the Jarbidge Field Office at the above address or electronically on the Web site shown above.

Copies of the Draft EIS and Draft RMP Amendment are available for public inspection during normal business hours at the following locations:

• Bureau of Land Management, Idaho State Office, Public Room, 1387 South Vinnell Way, Boise, Idaho 83709;

• Bureau of Land Management, Jarbidge Field Office, 2536 Kimberly Road, Twin Falls, Idaho 83301;

• Bureau of Land Management, Nevada State Office, Public Room, 1340 Financial Boulevard, Reno, Nevada 89502; and

• Bureau of Land Management, Wells Field Office, 3900 E. Idaho Street, Elko, Nevada 89801.

FOR FURTHER INFORMATION CONTACT: China Mountain Wind Project Manager, Jarbidge Field Office, 2536 Kimberly Road, Twin Falls, Idaho 83301, telephone (208) 735-2072. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: China Mountain Wind, LLC (CMW), which is owned by RES America Developments, Inc. (RES) and Nevada Power Company (NV Energy), is proposing to construct, operate, and maintain a commercial wind power electric generation facility capable of generating up to 425 megawatts (MW) of electricity. Up to 170 wind turbines, each having a generating capacity between 2.3 and 3.0 MW, would be installed on an area covering approximately 30,700 acres in the Jarbidge Foothills, an area located southwest of Rogerson, Idaho, and west of Jackpot, Nevada. The proposed project area includes 4,700 acres of public land administered by the BLM Elko District, Wells Field Office, in northeastern Nevada, 15,300 acres of public land administered by the BLM Twin Falls District, Jarbidge Field Office, in south central Idaho, 2,000 acres of State of Idaho lands, and 8,700 acres of private lands in south central Idaho and northeast Nevada.

The proposal involves the issuance of a BLM right-of-way (ROW) grant for the facilities located on public lands. CMW's application for a ROW grant from the BLM for this project triggered the preparation of an EIS under NEPA. The BLM is responsible for evaluating the ROW grant across Federally managed lands by authority of FLPMA. The Draft EIS has been developed to meet the standards for analysis required for compliance with Federal regulations, and the Idaho State BLM has been designated as the review lead. Through internal and external scoping, the BLM has identified the following issues for analysis: Fish and wildlife including special status species, cultural resources, visual resources, air quality, soils, vegetation, noise, water quality, public access; recreation, wildfire management, hazardous materials, social values, and wilderness characteristics. A ROW grant for the proposed action is in conformance with the 1985 Wells RMP. It is not in conformance with the 1987 Jarbidge RMP provisions regarding Visual Resource Management (VRM) classes, protection of threatened, endangered, and sensitive species, protection of various wildlife and plant resources, and protection of water resources, wetland, and riparian habitats.

Amendments to the 1987 Jarbidge RMP would be required if a decision is made to approve seven of the nine alternatives identified in the Draft EIS. Currently, the 1987 Jarbidge RMP is undergoing a separate revision process. A Draft Jarbidge RMP/EIS for that revision was made available to the public on September 3, 2010, for a 90-day comment period. On October 22, 2010, the Idaho State Director extended the comment period for 60 days. The extended comment period closed January 31, 2011. If the Jarbidge RMP revision is adopted prior to a decision on the China Mountain Wind Project, the project proposal may need to be analyzed against the landscape-scale decisions made in that document.

Nine alternatives are analyzed in this Draft EIS/Draft RMP Amendment. These alternatives were developed in response to issues and concerns raised during the NEPA scoping period that took place from April 21, 2008 to July 21, 2008 and involved three public meetings that took place in Twin Falls, Idaho, and Elko, and Jackpot, Nevada. Public and agency concerns include potential impacts to sensitive species and their habitats, cultural resources, visual resources, public access, and socio-economic resources.

• Alternative A, the No Action Alternative, reflects existing RMP decisions and would result in denying the ROW application.

• Alternative B1 is the applicant's proposed action as submitted in its ROW application and associated plan of development. This alternative would require amendments to the 1987 Jarbidge RMP: To change the VRM Class in certain parts of the proposed project area from II and III to IV; to remove stipulations, in the proposed project area only, regarding sensitive animal species and crucial habitats that specify seasonal occupancy restrictions for various sensitive species; to modify a stipulation that protects threatened, endangered, and sensitive plant species from disturbance related to construction activities such that it would no longer include sensitive plant species in the proposed project area; and to remove a stipulation, in the proposed project area only, that would preclude project facilities within 500 feet of streams.

• Alternative B2 is a two-phase alternative with three different iterations of Phase I, B2a, B2b, and B2c, which are based on the applicant's proposal and the avoidance of various wildlife habitats. A phased approach would allow the BLM to monitor the impacts of Phase I on wildlife prior to constructing the entire project. Phasing would allow the BLM to monitor and confirm that impacts are as predicted in the impact analysis. Under this alternative, monitoring results would be used to determine whether unanticipated impacts occurred as a result of Phase I. If unanticipated impacts occur, the BLM would conduct appropriate NEPA analysis and adjust requirements prior to issuing a notice to proceed to construct Phase II. Alternative B2a would require amendments to the 1987 Jarbidge RMP as described under Alternative B1 above. Alternatives B2b and B2c would require amendments to the 1987 Jarbidge RMP as described under Alternative B1 for VRM and sensitive plants. In addition, an amendment to the stipulations regarding sensitive animal species, crucial habitats, and water resources that would allow exemptions to the restrictions in the stipulations during construction, operation, and decommissioning of the proposed project on a case-by-case basis subject to certain conditions would be required. This amendment would also remove these same restrictions as they apply to routine daily maintenance only.

• Alternative C is a modification of the applicant's proposed action which seeks to reduce impacts to sage-grouse and bats by not constructing turbines in areas within 2 miles of sage-grouse leks and a high bat use area. This alternative would require amendments to the 1987 Jarbidge RMP as described above for Alternatives B2b and B2c.

• Alternative D is a modified version of Alternative C which seeks to further reduce impacts to sage-grouse by eliminating turbine construction in an area of known sage-grouse movements. This alternative would require amendments to the 1987 Jarbidge RMP as described above for Alternatives B2b and B2c.

• Alternative E would be a modification of the applicant's proposed action which would comply with all RMP decisions from the 1987 Jarbidge RMP and the 1985 Wells RMP by eliminating turbines from areas within 2 miles of sage-grouse leks, eliminating turbines from areas of VRM Class II, precluding construction and maintenance activities during times seasonally restricted for various wildlife resources, and eliminating project facilities within 500 feet of streams.

• Alternative F is a modification of the applicant's proposed action which seeks to reduce impacts to cultural resources by eliminating turbine placement in areas with high concentrations of cultural resources and areas of known Native American religious significance. This alternative would require amendments to the 1987 Jarbidge RMP as described above for alternatives B2b and B2c.

In addition, 11 alternatives were considered in the Draft EIS but eliminated from detailed study. These alternatives did not meet the purpose and need of the proposed action. The BLM has not identified a preferred alternative for the project as one does not exist. A preferred project alternative will be identified in the Final EIS per Council on Environmental Quality requirements. The BLM has identified Alternatives B2b, B2c, C, D, and F, which would require amendments to the 1987 Jarbidge RMP, as the preferred planning alternatives, as required by 43 CFR 1610.4-7.

The BLM will use and coordinate the NEPA commenting process to satisfy the public involvement process for Section 106 of the National Historic Preservation Act (16 U.S.C. 470(f) as provided for in 36 CFR 800.2(d)(3)). Native American Tribal consultations will be conducted in accordance with policy, and Tribal concerns will be given due consideration, including impacts on Indian trust assets.

Following the public comment period, comments will be used to prepare the Proposed RMP Amendment and Final EIS. The BLM will respond to each substantive comment by making appropriate revisions to the document or by explaining why a comment did not warrant a change. A Notice of Availability of the Proposed RMP Plan Amendment/Final EIS will be published in the Federal Register.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 1506.10 and 43 CFR 1610.2.

Richard VanderVoet,
Jarbidge Field Office Manager.

[FR Doc. 2011-8327 Filed 4-7-11; 8:45 am]

BILLING CODE 4310-GG-P